DEPARTMENT OF THE INTERIOR

Bureau of Reclamation

California Bay-Delta Public Advisory Committee Public Meeting Cancellation; Federal Register: November 9, 2007 (Volume 72, Number 217) [Notices] Page 63628-63629] [DOCID:fr09no07-94] [FR Doc. 07-5597 Filed 11-8-07; 8:45 am]

AGENCY: Bureau of Reclamation, Interior.

ACTION: Notice of meeting cancellation.

SUMMARY: The Joint meeting of the California Bay-Delta Public Advisory Committee and the California Bay-Delta Authority meeting noticed in the Federal Register on November 8, 2007, Volume 72, Number 217, Page 63628-63629, has been cancelled. The subject meeting will be rescheduled at a later date which is yet to be determined.

DATES: The meeting was scheduled for Thursday, December 13, 2007, from 9 a.m. to 4 p.m.

FOR FURTHER INFORMATION CONTACT: Diane Buzzard, U.S. Bureau of Reclamation, at 916-978-5022 or Julie Alvis, California Bay-Delta Program, at 916-445-5551.

Dated: November 26, 2007.
Diane A. Buzzard,
Acting Special Projects Officer, Mid-Pacific Region, U.S. Bureau of Reclamation.

[FR Doc. 07-5948 Filed 12-5-07; 8:45 am]

BILLING CODE 4310-MN-M